DEPARTMENT OF LABOR

Employment and Training Administration

[TA-W-38,341]

Caffall Brothers Forest Products, Inc., Wilsonville, OR; Notice of Termination of Investigation

Pursuant to section 221 of the Trade Act of 1974, an investigation was initiated on November 20, 2000 in response to a petition which was filed by the company on behalf of workers at Caffal Bros. Forest Products, Inc., Wilsonville, Oregon.

The company has requested that the petition be withdrawn. Consequently, further investigation in this case would serve no purpose, and the investigation has been terminated.

Signed in Washington, DC this 29th day of December, 2000.
Linda Poole,
Certifying Officer, Division of Trade Adjustment Assistance.

[FR Doc. 01-941 Filed 1-10-01; 8:45 am]

BILLING CODE 4510-30-M